DEPARTMENT OF TRANSPORTATION

Notice of Intent To Rule on Request To Release Airport Property at the Jeffco Airport, Broomfield, CO

AGENCY: Federal Aviation Administration (FAA), DOT.

ACTION: Notice of request to release airport property.

SUMMARY: The FAA proposes to rule and invite public comment on the release of land at the Jeffco Airport under the provisions of section 125 of the Wendell H. Ford Aviation Investment Reform Act for the 21st Century (AIR 21).

DATES: Comments must be received on or before August 30, 2004.

ADDRESSES: Comments on this application may be mailed or delivered to the FAA at the following address: Mr. Phillip Braden, Assistant Manager, Federal Aviation Administration, Northwest Mountain Region, Airports Division, Denver Airports District Office, 26805 E. 68th Ave., Suite 224, Denver, Colorado 80249.

In addition, one copy of any comments submitted to the FAA must be mailed or delivered to Mr. Troy Stover, Manager, Jeffco Airport, 11755 Airport Way, Broomfield, Colorado 80021.

FOR FURTHER INFORMATION CONTACT: Mr. Scott Fredericksen, Project Manager, Federal Aviation Administration, Northwest Mountain Region, Airports Division, Denver Airports District Office, 26805 E. 68th Ave., Suite 224, Denver, Colorado 80249.

The request to release property may be reviewed in person at this same location.

SUPPLEMENTARY INFORMATION: The FAA invites public comment on the request to release property at the Jeffco Airport under the provisions of the ARI 21.

On July 9, 2004, the FAA determined that the request to release property at the Gunnison-Crested Butte Regional Airport submitted by the County of Gunnison, Colorado met the procedural requirements of the Federal Aviation Regulations, part 155. The FAA may approve the request, in whole or in part, no later than January 31, 2005.

The following is a brief overview of the request: The Jeffco Airport requests the release of 14.958 acres of airport property from aeronautical use to non-aeronautical use. The purpose of this release is to allow Jeffco Airport to lease the subject land to non-aeronautical businesses since it no longer serves any aeronautical purpose at the airport. The release of this parcel will provide revenue for airport improvements and maintenance.

Any person may inspect the request by appointment at the FAA office listed above under FOR FURTHER INFORMATION CONTACT.

In addition, any person may, inspect the application, notice and other documents germane to the application in person at the Jeffco Airport, 11755 Airport Way, Broomfield, Colorado 80012.

Issued in Denver, Colorado on July 9, 2004.
Philip Braden,
Assistant Manager, Denver Airports District Office.

[FR Doc. 04-17403 Filed 7-29-04; 8:45 am]

BILLING CODE 4910-13-M